ENVIRONMENTAL PROTECTION AGENCY

[OPP-2005-0188; FRL-7722-5]

Pesticide Emergency Exemptions; Agency Decisions and State and Federal Agency Crisis Declarations

AGENCY: Environmental Protection Agency (EPA).

ACTION: Notice.

SUMMARY: EPA has granted or denied emergency exemptions under the Federal Insecticide, Fungicide, and Rodenticide Act (FIFRA) for use of pesticides as listed in this notice. The exemptions or denials were granted during the period January 1, 2005 to March 31, 2005 to control unforseen pest outbreaks.

FOR FURTHER INFORMATION CONTACT: See each emergency exemption or denial for the name of a contact person. The following information applies to all contact persons: Team Leader, Emergency Response Team, Registration Division (7505C), Office of Pesticide Programs, Environmental Protection Agency, 1200 Pennsylvania Ave., NW., Washington, DC 20460-0001; telephone number: (703) 308-9366.

SUPPLEMENTARY INFORMATION: EPA has granted or denied emergency exemptions to the following State and Federal agencies. The emergency exemptions may take the following form: Crisis, public health, quarantine, or specific. EPA has also listed denied emergency exemption requests in this notice.

I. General Information

A. Does this Action Apply to Me?

You may be potentially affected by this action if you are an agricultural producer, food manufacturer, or pesticide manufacturer. Potentially affected entities may include, but are not limited to:

• Crop production (NAICS code 111)

• Animal production (NAICS code 112)

• Food manufacturing (NAICS code 311)

• Pesticide manufacturing (NAICS code 32532)

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions discussed above. If you have any questions regarding the applicability of this action to a particular entity, consult the person listed under FOR FURTHER INFORMATION CONTACT.

B. How Can I Get Copies of this Document and Other Related Information?

1. Docket. EPA has established an official public docket for this action under docket identification number OPP-2005-0188. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. Background

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are a particular form of specific exemption issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption or denial, the type of exemption, the pesticide authorized and the pests, the crop or use for which authorized, number of acres (if applicable), and the duration of the exemption. EPA also gives the Federal Register citation for the time-limited tolerance, if any.

III. Emergency Exemptions and Denials

A. U. S. States and Territories

Alabama

Department of Agriculture and Industries

Specific: EPA authorized the use of coumaphos in beehives to control varroa mites and small hive beetles; February 7, 2005 to February 1, 2006. Contact: (Barbara Madden)

California

Environmental Protection Agency, Department of Pesticide Regulation

Crisis: On August 30, 2004, for the use of spinosad on green onions to control thrips. This program ended on October 31, 2004. Contact: (Andrew Ertman)

Specific: EPA authorized the use of thiamethoxam on artichoke to control proba bug; January 14, 2005 to January 14, 2006. Contact: (Barbara Madden)

EPA authorized the use of maneb on walnut to control bacterial blight; March 1, 2005 to June 15, 2005. Contact: (Libby Pemberton)

EPA authorized the use of myclobutanil on peppers to control powdery mildew (Oidiopsis taurica); June 1, 2005 to May 31, 2006. Contact: (Libby Pemberton)

EPA authorized the use of oxytetracycline in apples to control fire blight; March 11, 2005 to August 1, 2005. Contact: (Andrea Conrath)

EPA authorized the use of tebuconazole on garlic to control garlic rust (Puccinia porri - P. allii); March 16, 2005 to July 3, 2005. Contact: (Libby Pemberton)

EPA authorized the use of spiromesifen on pepper to control potato psyllid Bactericera (Paratrioza cockerelli); March 25, 2005 to November 30, 2005. Contact: (Libby Pemberton)

Colorado

Department of Agriculture

Specific: EPA authorized the use of coumaphos in beehives to control varroa mites and small hive beetles; February 7, 2005 to February 1, 2006. Contact: (Barbara Madden)

EPA authorized the use of difenoconazole on sweet corn seed to control damping off and die-back disease; March 11, 2005 to March 10, 2006. Contact: (Andrea Conrath)

EPA authorized the use of tebuconazole on sunflower to control rust (Puccinia helianthi); July 1, 2005 to August 25, 2005. Contact: (Libby Pemberton)

Connecticut

Department of Environmental Protection

Specific: EPA authorized the use of azoxystrobin on tobacco to control blue mold (Peronospora tabacina) March 30, 2005 to December 31, 2005. Contact: (Libby Pemberton)

EPA authorized the use of maneb on walnut to control bacterial blight; March 1, 2005 to June 15, 2005. Contact: (Libby Pemberton)

Delaware

Department of Agriculture

Specific: EPA authorized the use of thiophanate methyl in mushroom cultivation to control green mold; January 7, 2005 to January 7, 2006. Contact: (Andrea Conrath)

EPA authorized the use of coumaphos in beehives to control varroa mites and small hive beetles; February 7, 2005 to February 1, 2006. Contact: (Barbara Madden)

Florida

Department of Agriculture and Consumer Services

Specific: EPA authorized the use of Pyriproxyfen in legumes to control Whitefly; February 9, 2005 to February 9, 2006. Contact: (Andrea Conrath)

EPA authorized the use of thiophanate methyl in citrus to control post-bloom fruit drop and stem end rot; March 2, 2005 to March 2, 2006. Contact: (Andrea Conrath)

Georgia

Department of Agriculture

Specific: EPA authorized the use of coumaphos in beehives to control varroa mites and small hive beetles; February 2, 2005 to February 1, 2006. Contact: (Barbara Madden)

EPA authorized the use of the formulated product ApiLife VAR containing thymol, eucalyptus oil, and L-menthol in beehives to control varroa mites; February 23, 2005 to December 1, 2005. Contact: (Barbara Madden)

Idaho

Department of Agriculture

Specific: EPA authorized the use of the formulated product ApiLife VAR containing thymol, eucalyptus oil, and L-menthol in beehives to control varroa mites; February 17, 2005 to December 1, 2005. Contact: (Barbara Madden)

EPA authorized the use of thiabendazole in lentils to control Ascochyta Blight; February 22, 2005 to June 1, 2005. Contact: (Andrea Conrath)

EPA authorized the use of difenoconazole on sweet corn seed to control damping off and die-back disease; March 11, 2005 to March 10, 2006. Contact: (Andrea Conrath)

EPA authorized the use of oxytetracycline in apples to control fire blight; March 11, 2005 to August 1, 2005. Contact: (Andrea Conrath)

Illinois

Department of Agriculture

Specific: EPA authorized the use of coumaphos in beehives to control varroa mites and small hive beetles; February 7, 2005 to February 1, 2006. Contact: (Barbara Madden)

EPA authorized the use of the formulated product ApiLife VAR containing thymol, eucalyptus oil, and L-menthol in beehives to control varroa mites; February 7, 2005 to December 1, 2005. Contact: (Barbara Madden)

Indiana

Office of Indiana State Chemist

Specific: EPA authorized the use of coumaphos in beehives to control varroa mites and small hive beetles; February 23, 2005 to February 1, 2006. Contact: (Barbara Madden)

EPA authorized the use of fenbuconazole in blueberries to control mummyberry disease; March 10, 2005 to September 30, 2005. Contact: (Andrea Conrath)

Kansas

Department of Agriculture

Specific: EPA authorized the use of coumaphos in beehives to control varroa mites and small hive beetles; February 7, 2005 to February 1, 2006. Contact: (Barbara Madden)

Maryland

Department of Agriculture

Specific: EPA authorized the use of thiophanate methyl in mushroom cultivation to control green mold; January 7, 2005 to January 7, 2006. Contact: (Andrea Conrath)

EPA authorized the use of coumaphos in beehives to control varroa mites and small hive beetles; February 7, 2005 to February 1, 2006. Contact: (Barbara Madden)

EPA authorized the use of the formulated product ApiLife VAR containing thymol, eucalyptus oil, and L-menthol in beehives to control varroa mites; February 7, 2005 to December 1, 2005. Contact: (Barbara Madden)

Massachusetts

Massachusetts Department of Food and Agriculture

Specific: EPA authorized the use of azoxystrobin on tobacco to control blue mold (Peronospora tabacina) March 30, 2005 to December 31, 2005. Contact: (Libby Pemberton)

Michigan

Michigan Department of Agriculture

Specific: EPA authorized the use of the formulated product ApiLife VAR containing thymol, eucalyptus oil, and L-menthol in beehives to control varroa mites; February 17, 2005 to December 1, 2005. Contact: (Barbara Madden)

EPA authorized the use of fenbuconazole in blueberries to control mummyberry disease; March 10, 2005 to September 1, 2005. Contact: (Andrea Conrath)

EPA authorized the use of oxytetracycline in apples to control fire blight; March 11, 2005 to June 30, 2005. Contact: (Andrea Conrath)

EPA authorized the use of tebuconazole on asparagus to control asparagus rust (Puccinia asparagi); March 16, 2005 to November 1, 2005. Contact: (Libby Pemberton)

Minnesota

Department of Agriculture

Crisis: EPA authorized the use of tetraconazole on soybeans to control soybean rust; March 2, 2005, to March 1, 2008. Contact: (Andrew Ertman)

Specific: EPA authorized the use of the formulated product ApiLife VAR containing thymol, eucalyptus oil, and L-menthol in beehives to control varroa mites; January 30, 2005 to December 1, 2005. Contact: (Barbara Madden)

Mississippi

Department of Agriculture and Commerce

Specific: EPA authorized the use of coumaphos in beehives to control varroa mites and small hive beetles; February 23, 2005 to February 1, 2006. Contact: (Barbara Madden)

EPA authorized the use of the formulated product ApiLife VAR containing thymol, eucalyptus oil, and L-menthol in beehives to control varroa mites; February 23, 2005 to December 1, 2005. Contact: (Barbara Madden)

Missouri

Department of Agriculture

Specific: EPA authorized the use of coumaphos in beehives to control varroa mites and small hive beetles; February 7, 2005 to February 1, 2006. Contact: (Barbara Madden)

Montana

Department of Agriculture

Specific: EPA authorized the use of thiabendazole in lentils to control Ascochyta Blight; March 11, 2005 to June 1, 2005. Contact: (Andrea Conrath)

New Hampshire

Department of Agriculture

Specific: EPA authorized the use of fenbuconazole in blueberries to control mummyberry disease; March 10, 2005 to August 31, 2005. Contact: (Andrea Conrath)

New York

Department of Environmental Conservation

Specific: EPA authorized the use of coumaphos in beehives to control varroa mites and small hive beetles; February 2, 2005 to February 1, 2006. Contact: (Barbara Madden)

EPA authorized the use of desmedipham on red (table) beets to control several important broadleaf weeds, including hairy galinsoga, common ragweed, redroot pigweed, common lambsquarters, velvetleaf, nightshade spp. and wild mustard; February 2, 2005 to August 15, 2005. Contact: (Libby Pemberton)

EPA authorized the use of fenbuconazole in blueberries to control mummyberry disease; March 10, 2005 to June 30, 2005. Contact: (Andrea Conrath)

North Carolina

Department of Agriculture

Specific: EPA authorized the use of coumaphos in beehives to control varroa mites and small hive beetles; February 2, 2005 to February 1, 2006. Contact: (Barbara Madden)

EPA authorized the use of fenbuconazole in blueberries to control mummyberry disease; March 10, 2005 to August 31, 2005. Contact: (Andrea Conrath)

North Dakota

Department of Agriculture

Specific: EPA authorized the use of thiabendazole in lentils to control Ascochyta Blight; February 22, 2005 to June 1, 2005. Contact: (Andrea Conrath)

Oklahoma

Department of Agriculture

Specific: EPA authorized the use of coumaphos in beehives to control varroa mites and small hive beetles; February 2, 2005 to February 1, 2006. Contact: (Barbara Madden)

Oregon

Department of Agriculture

Specific: EPA authorized the use of coumaphos in beehives to control varroa mites and small hive beetles; February 7, 2005 to February 1, 2006. Contact: (Barbara Madden)

EPA authorized the use of the formulated product ApiLife VAR containing thymol, eucalyptus oil, and L-menthol in beehives to control varroa mites; February 7, 2005 to December 1, 2005. Contact: (Barbara Madden)

EPA authorized the use of propiconazole on filberts to control Eastern Filbert Blight; February 9, 2005 to May 30, 2005. Contact: (Andrea Conrath)

EPA authorized the use of thiabendazole in lentils to control Ascochyta Blight; February 22, 2005 to June 1, 2005. Contact: (Andrea Conrath)

EPA authorized the use of fenbuconazole in blueberries to control mummyberry disease; March 10, 2005 to May 31, 2005. Contact: (Andrea Conrath)

EPA authorized the use of sulfentrazone on strawberries to control broadleaf weeds; March 11, 2005 to February 28, 2006. Contact: (Andrew Ertman)

EPA authorized the use of oxytetracycline in apples to control fire blight; March 11, 2005 to August 1, 2005. Contact: (Andrea Conrath)

Pennsylvania

Department of Agriculture

Specific: EPA authorized the use of the formulated product ApiLife VAR containing thymol, eucalyptus oil, and L-menthol in beehives to control varroa mites; January 30, 2005 to December 1, 2005. Contact: (Barbara Madden)

EPA authorized the use of thiophanate methyl in mushroom cultivation to control green mold; January 7, 2005 to January 7, 2006. Contact: (Andrea Conrath)

EPA authorized the use of coumaphos in beehives to control varroa mites and small hive beetles; February 7, 2005 to February 1, 2006. Contact: (Barbara Madden)

EPA authorized the use of fenbuconazole in blueberries to control mummyberry disease; March 10, 2005 to September 1, 2005. Contact: (Andrea Conrath)

South Carolina

Clemson University

Specific: EPA authorized the use of coumaphos in beehives to control varroa mites and small hive beetles; February 23, 2005 to February 1, 2006. Contact: (Barbara Madden)

South Dakota

Department of Agriculture

Quarantine: EPA authorized the use of tetraconazole on soybeans to control soybean rust; March 2, 2005, to March 1, 2008. Contact: (Andrew Ertman)

Tennessee

Department of Agriculture

Specific: EPA authorized the use of coumaphos in beehives to control varroa mites and small hive beetles; February 23, 2005 to February 1, 2006. Contact: (Barbara Madden)

Texas

Department of Agriculture

Specific: EPA authorized the use of coumaphos in beehives to control varroa mites and small hive beetles; February 2, 2005 to February 1, 2006. Contact: (Barbara Madden)

Utah

Department of Agriculture

Specific: EPA authorized the use of coumaphos in beehives to control varroa mites and small hive beetles; February 23, 2005 to February 1, 2006. Contact: (Barbara Madden)

EPA authorized the use of the formulated product ApiLife VAR containing thymol, eucalyptus oil, and L-menthol in beehives to control varroa mites; February 23, 2005 to December 1, 2005. Contact: (Barbara Madden)

Washington

Department of Agriculture

Specific: EPA authorized the use of the formulated product ApiLife VAR containing thymol, eucalyptus oil, and L-menthol in beehives to control varroa mites; January 30, 2005 to December 1, 2005. Contact: (Barbara Madden)

EPA authorized the use of coumaophos in beehives to control varroa mites and small hive beetles; February 7, 2005 to February 1, 2006. Contact: (Barbara Madden)

EPA authorized the use of propiconazole on filberts to control Eastern Filbert Blight; February 9, 2005 to May 30, 2005. Contact: (Andrea Conrath)

EPA authorized the use of thiabendazole in lentils to control Ascochyta Blight; February 22, 2005 to June 1, 2005. Contact: (Andrea Conrath)

EPA authorized the use of sulfentrazone on strawberries to control broadleaf weeds; March 2, 2005 to February 28, 2006. Contact: (Andrew Ertman)

EPA authorized the use of fenbuconazole in blueberries to control mummyberry disease; March 10, 2005 to June 10, 2005. Contact: (Andrea Conrath)

EPA authorized the use of oxytetracycline in apples to control fire blight; March 11, 2005 to August 1, 2005. Contact: (Andrea Conrath)

West Virginia

Department of Agriculture

Specific: EPA authorized the use of coumaphos in beehives to control varroa mites and small hive beetles; February 2, 2005 to February 1, 2006. Contact: (Barbara Madden)

Wisconsin

Department of Agriculture, Trade, and Consumer Protection

Specific: EPA authorized the use of sulfentrazone on strawberries to control broadleaf weeds; June 20, 2005 to December 15, 2005. Contact: (Andrew Ertman)

List of Subjects

Environmental protection, Pesticides and pest.

June 29, 2005.
Lois Rossi,
Director, Registration Division, Office of Pesticide Programs.

[FR Doc. 05-13780 Filed 7-12-05; 8:45 am]

BILLING CODE 6560-50-S